DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with hose produced by each firm contributed importantly to the total or partial separation of the firm's workers, or threat thereof, and to a decrease in sales or production of each petitioning firm.

List of Petitions Received by EDA for Certification of Eligibility To Apply for Trade Adjustment Assistance for the Period April 21, 2007 through May 21, 2007
Firm | Address | Date petition accepted | Product
NanoScale Corporation | 1310 Research park Drive Manhattan, KS 66502 | 5/2/2007 | specialty Nano products.
Agri-Inject, Inc | 5500 East Highway 34 Yuma, CO 80759 | 5/2/2007 | pumps for agricultural fluid application technology.
Heritage Medical Products, Inc. | 10380 County Rd 6310 West Plains, MO 65775-6331 | 5/2/2007 | exam tables used in echocardiography and vascular surgery.
Line Tool and Stamping Company DBA The Line Group, Inc. | 539 West Algonquin Road Arlington Heights, IL 60005 | 5/14/2007 | Custom metal stampings and assemblies related to mounts and fittings for automotive, off-road, heavy duty, household appliance and shelving industries.
Chim Cap Corp | 120 Schmitt Blvd. Farmingdale, NY 11735 | 5/10/2007 | Stainless steel chimney caps and liners.
Bufore Enterprises, INC dba Clark Engineering | 700 McMillan Owosso, MI 48867 | 5/14/2007 | steel rod, wire and tube products.
Gene Pearce Industries | 25103 W. 41st Sand Springs, OK 74063 | 5/10/2007 | parts for winches.
Fiberglass Innovations, L.L.C. | 2219 Kishwaukee St. Rockford, IL 61101-7008 | 5/21/2007 | Fiberglass pultruded products.
Fredericks Design, Inc. | 6 Sherman Avenue Grand Haven, MI 49417 | 5/14/2007 | Short run plastic prototypes.

Any party having a substantial interest in these proceedings may request a public hearing on the matter. A written request for a hearing must be submitted to the Office of Performance Evaluation, Room 7009, Economic Development Administration, U.S. Department of Commerce, Washington, DC 20230, no later than ten (10) calendar days following publication of this notice. Please follow the procedures set forth in Section 315.9 of EDA's final rule (71 FR 56704) for procedures for requesting a public hearing. The Catalog of Federal Domestic Assistance official program number and title of the program under which these petitions are submitted is 11.313, Trade Adjustment Assistance.

Dated: May 21, 2007.
William P. Kittredge,
Program Officer for TAA.

[FR Doc. 07-2647 Filed 5-25-07; 8:45 am]

BILLING CODE 3510-24-M